DEPARTMENT OF HEALTH AND HUMAN SERVICES

National Institutes of Health

Center for Scientific Review; Amended Notice of Meeting

Notice is hereby given of a change in the meeting of the Clinical Neuroscience and Neurodegeneration Study Section, June 3, 2010, 8 a.m. to June 4, 2010, 5 p.m., Washington Plaza Hotel, 10 Thomas Circle, NW., Washington, DC 20005 which was published in the Federal Register on May 7, 2010, 75 FR 25273-25275.

The meeting will be one day only, June 3, 2010, from 8 a.m. to 6:30 p.m. The meeting location remains the same. The meeting is closed to the public.

Dated: May 17, 2010.
Jennifer Spaeth,
Director, Office of Federal Advisory Committee Policy.

[FR Doc. 2010-12145 Filed 5-19-10; 8:45 am]

BILLING CODE 4140-01-P